DEPARTMENT OF ENERGY

Federal Energy Regulatory Commission

Combined Notice of Filings #1

Take notice that the Commission received the following electric corporate filings:

Docket Numbers: EC12-80-000.

Applicants: Pioneer Trail Wind Farm, LLC.

Description: Application For Authorization under Section 203 Of The Federal Power Act, Requests For Waivers Of Filing Requirements, Expedited Review And Confidential Treatment of Pioneer Trail Wind Farm, LLC.

Filed Date: 3/14/12.

Accession Number: 20120314-5019.

Comments Due: 5 p.m. ET 4/4/12.

Take notice that the Commission received the following electric rate filings:

Docket Numbers: ER11-4100-002.

Applicants: California Independent System Operator Corporation.

Description: 2012-03-14 CAISO Order 745 Compliance Filing to be effective 12/15/2011.

Filed Date: 3/14/12.

Accession Number: 20120314-5109.

Comments Due: 5 p.m. ET 4/4/12.

Docket Numbers: ER11-4106-002.

Applicants: PJM Interconnection, LLC.

Description: Compliance Filing per Order dated 12/15/2011 in ER11-4106 (Order 745-DR Comp) to be effective 4/1/2012.

Filed Date: 3/14/12.

Accession Number: 20120314-5087.

Comments Due: 5 p.m. ET 4/4/12.

Docket Numbers: ER11-4326-001; ER11-3069-002; ER11-3545-001; ER11-3141-002; ER11-3098-002.

Applicants: Viridian Energy NY LLC, Viridian Energy, Inc., Viridian Energy MD LLC, Viridian Energy PA, LLC, Cincinnati Bell Energy LLC.

Description: Notice of non-material change in status by Viridian Energy, Inc., et al.

Filed Date: 3/14/12.

Accession Number: 20120314-5121.

Comments Due: 5 p.m. ET 4/4/12.

Docket Numbers: ER11-4486-002.

Applicants: ITC Midwest LLC.

Description: Compliance Filing of ITC Midwest LLC to be effective 11/9/2011.

Filed Date: 3/14/12.

Accession Number: 20120314-5076.

Comments Due: 5 p.m. ET 4/4/12.

Docket Numbers: ER12-1261-000.

Applicants: Cleco Power LLC.

Description: Baseline of RS 11, 12, 17 and SA 93 & 110 to be effective 3/14/2012.

Filed Date: 3/14/12.

Accession Number: 20120314-5063.

Comments Due: 5 p.m. ET 4/4/12.

Docket Numbers: ER12-1262-000.

Applicants: Cleco Power LLC.

Description: Moving RS10 to Tariff ID 61 to be effective 3/14/2012.

Filed Date: 3/14/12.

Accession Number: 20120314-5089.

Comments Due: 5 p.m. ET 4/4/12.

Docket Numbers: ER12-1263-000.

Applicants: Cleco Power LLC.

Description: Cancellation of tariff ID—RS 10 moved to Tariff ID 61 to be effective 3/14/2012.

Filed Date: 3/14/12.

Accession Number: 20120314-5092.

Comments Due: 5 p.m. ET 4/4/12.

Docket Numbers: ER12-1264-000.

Applicants: Pacific Gas and Electric Company.

Description: Gates Solar Station LGIA WDT SA No. 87 to be effective 3/15/2012.

Filed Date: 3/14/12.

Accession Number: 20120314-5105.

Comments Due: 5 p.m. ET 4/4/12.

Docket Numbers: ER12-1265-000.

Applicants: Midwest Independent Transmission System Operator, Inc.

Description: 03-14-12 Order 719 Compliance to be effective 6/12/2012.

Filed Date: 3/14/12.

Accession Number: 20120314-5106.

Comments Due: 5 p.m. ET 4/4/12.

Docket Numbers: ER12-1266-000.

Applicants: Midwest Independent Transmission System Operator, Inc.

Description: 03-14-12 Order 745 Compliance to be effective 6/12/2012.

Filed Date: 3/14/12.

Accession Number: 20120314-5108.

Comments Due: 5 p.m. ET 4/4/12.

Docket Numbers: ER12-1267-000.

Applicants: Pacific Gas and Electric Company.

Description: Pacific Gas and Electric Company submits Notice of Termination.

Filed Date: 3/14/12.

Accession Number: 20120314-5112.

Comments Due: 5 p.m. ET 4/4/12.

Docket Numbers: ER12-1268-000.

Applicants: Neptune Regional Transmission System, LLC.

Description: Request for Waiver of Neptune Regional Transmission System, LLC.

Filed Date: 3/14/12.

Accession Number: 20120314-5114.

Comments Due: 5 p.m. ET 4/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2012.
Nathaniel J. Davis, Sr.,
Deputy Secretary.

[FR Doc. 2012-6881 Filed 3-21-12; 8:45 am]

BILLING CODE 6717-01-P